ENVIRONMENTAL PROTECTION AGENCY

[ER-FRL-6634-7]

Environmental Impact Statements; Notice of Availability

Responsible Agency: Office of Federal Activities, General Information (202) 564-7167 or http://www.epa.gov/compliance/nepa.

Weekly receipt of Environmental Impact Statements filed October 23, 2002, through November 01, 2002, pursuant to 40 CFR 1506.9.

EIS No. 020445, DRAFT EIS, COE, Lake Sidney Lanier Project, To Continue the Ongoing Operation and Maintenance Activities Necessary of Flood Control, Hydropower Generation, Water Supply, Recreation, Natural Resources Management, and Shoreline Management, Section 10 and 404 permits, Dawson, Forsyth, Lumpkin, Hill and Gwinnett Counties, GA, Comment Period Ends: December 23, 2002, Contact: Charles H. McGregor (817) 886-1708.

EIS No. 020446, DRAFT EIS, JUS, AZ, Programmatic EIS—U.S. Border Patrol Activities within Borders Areas of the Tucson and Yuma Sectors, To Gain, Maintain, and Extend Control of the Border to Prevent Unlawful Entry of Persons into the U.S., Cochise, Santa Cruz, Pina and Yuza Counties, AZ, Comment Period Ends: December 23, 2002, Contact: Charles H. McGregor (817) 886-1708.

EIS No. 020447, FINAL EIS, COE, NJ, South River, Raritan River Basin Hurricane and Storm Damage Reduction and Ecosystem Restoration, Implementation, Middlesex County, NJ, Wait Period Ends: December 9, 2002, Contact: Josephine R. Axt (212) 264-5119.

EIS No. 020448, FINAL EIS, FRC, ID, C.J. Strike Hydroelectric Project (FERC NO. 2055), New License Issuance, Snake and Bruneau Rivers, Owyhee and Elmore Counties, ID, Wait Period Ends: December 9, 2002, Contact: John Blair (202) 502-6092.

EIS No. 020449, DRAFT EIS, AFS, MT, Windmill Timber Sale and Road Decomissioning Project, To Implement Timber Harvesting, Road Construction and Road Decommissioning in the Mill Creek Drainage of the Absaroka Mountain Range, Gallatin National Forest, MT, Comment Period Ends: December 23, 2002, Contact: Mike Dettori (406) 222-1892.

EIS No. 020450, FINAL SUPPLEMENT, FHW, WV, VA, Appalachians Corridor H, To Construct a 16-mile Highway Between Kerene to Parsons, Battlefield Avoidance, Randolph and Tucker Counties, WV, Wait Period Ends: December 27, 2002, Contact: Thomas J. Smith (304) 347-5928.

EIS No. 020451, FINAL SUPPLEMENT, NOA, ME, VT, CT, NH, MA, RI, Federal Lobster Management in the Exclusive Economic Service, Implementation, American Lobster Fishery Management Plan, NY, NH and MA, Wait Period Ends: December 09, 2002, Contact: Harold Mears (202) 482-5181.

EIS No. 020452, FINAL SUPPLEMENT, AFS, GA, AL, FL, SC, LA, NC, MS, TX, Vegetation Management in the Coastal Plain/ Piedmont, Proposal to Clarify Direction for Conducting Project-Level Inventories for Biological Evaluations (BEs), US Forest Service Southern Region, AL, GA, FL, SC, NC, LA, MS and TX, Wait Comment Ends: December 9, 2002, Contact: Robert Wilhelm (404) 347-7076.

This document is available on the Internet at: http://www.ferc.gov.

EIS No. 020453, FINAL SUPPLEMENT, AFS, AL, GA, KY, NC, SC, TN, VA, WV, Vegetation Management in the Appalachian Mountains, Proposal to Clarify Direction for Conducting Project-Level Inventories for Biological Evaluations (WAS), AL, GA, KY, NC, SC, TN, VA and WV, Wait Period Ends: December 9, 2002, Contact: Robert Wilhelm (404) 347-7076. This document is available on the Internet at: http://www.apo.lc.usbr.gov.

EIS No. 020454, FINAL SUPPLEMENT, AFS, OK, AR, Vegetation Management in the Ozark/Quachita Mountains, Proposal to Clarify Direction for Conducting Project-Level Inventories for Biological Evaluations (WAS), Qzark, Quachita and St. Francis National Forests, AR and McCurtain and LeFLore Counties, OR , Wait Period Ends: December 09, 2002, Contact: Robert Wilhelm (404) 347-7076. This document is available on the Internet at: http://www.southregion.fs.fed.us/planning/vmeis/index.htm.

EIS No. 020455, FINAL EIS, IBR, CA, Imperial Irrigation District Water Conservation and Transfer Project and Draft Habitat Conservation Plan (HCP), To Implement a Grant and Section 10 Permit to Authorize the Incidental Take, Colorado River, Imperial County, CA , Wait Period Ends: December 09, 2002, Contact: John A. Johnson (202) 513-0673. This document is available on the Internet at: http://www.lc.usbr.gov/lcrivops/html.

EIS No. 020456, FINAL EIS, IBR, AZ, NV, CA, Implementation Agreement (IA), Inadvertent Overrun and Payback Policy (IOP), and Related Federal Actions, Implementation, Quantification Settlement Agreement (QSA), Lower Colorado River, in the States of AZ, CA and NV, Wait Period Ends: December 9, 2002, Contact: John A. Johnson (202) 513-0673. This document is available on the Internet at: http://www.lc.usbr.gov/lcrivops/html.

Amended Notices

EIS No. 020370, DRAFT EIS, IBR, NM, UT, CO, Navajo Reservoir Operations, Proposed Operational Changes to Navajo Dam and Reservoir, Endangered Species Act (ESA), Related Flow Recommendations, Navajo Unit-San Juan River, NM, C0 and UT, Due: December 4, 2002, Contact: Ken Beck (970) 385-6558. Revision of FR Notice Published on 9/6/2002: CEQ Comment Period Ending 11/4/2002 has been Extended to 12/4/2002.

EIS No. 020376, DRAFT EIS, IBR, CA, Fish Passage Improvement Project at the Red Bluff Diversion Dam (RBDD), Improvements of Anadromous Fish Passage both Upstream and Downstream, Tehama-Colusa Canal Authority (TCCA), Tehama, Glenn, Colusa and Yolo Counties, CA, Comment Period Ends: November 30, 2002, Contact: Max Stodolski (530) 529-3895. Revision of FR Notice Published on 9/6/2002: CEQ Comment Period Ending on 10/21/2002 has been Extended to 11/30/2002.

Dated: November 5, 2002.
Joseph C. Montgomery,
Director, NEPA Compliance Division, Office of Federal Activities.

[FR Doc. 02-28505 Filed 11-7-02; 8:45 am]

BILLING CODE 6560-50-P